DEPARTMENT OF LABOR

Employment and Training Administration

[TA-W-57,474]

Lund Boat Company, New York Mills, MN; Notice of Termination of Investigation

Pursuant to Section 221 of the Trade Act of 1974, as amended, an investigation was initiated on June 29, 2005 in response to a worker petition filed on behalf of workers at Lund Boat Company, New York Mills, Minnesota.

The petitioner has requested that the petition be withdrawn. Consequently, the investigation has been terminated.

Signed at Washington, DC, this 30th day of June, 2005.
Richard Church,
Certifying Officer, Division of Trade Adjustment Assistance.

[FR Doc. E5-3759 Filed 7-14-05; 8:45 am]

BILLING CODE 4510-30-P